Title 3—

The President

Proclamation 9198 of October 24, 2014

United Nations Day, 2014

By the President of the United States of America

A Proclamation

In 1945, in the shadow of a world war and the face of an uncertain future, 51 founding nations joined in common purpose to establish the United Nations and codify its mission to maintain international peace and security, encourage global cooperation, and promote universal respect for human rights. Nearly seven decades later, we once again find ourselves at a pivotal moment in history—a crossroads between conflict and peace, disorder and integration, hatred and dignity—dealing with new challenges that require a united response. As we confront these global problems in an increasingly interconnected world, the United Nations remains as necessary and vital as ever. On United Nations Day, we recognize the important role the United Nations continues to play in the international system, and we reaffirm our country's commitment to work with all nations to build a world that is more just, more peaceful, and more free.

The United Nations fosters international cooperation and enables progress on the world's most immediate threats and critical long-term challenges. From addressing climate change and eradicating poverty to preventing armed conflict and halting the proliferation of weapons of mass destruction, the work of the United Nations supports our shared pursuit of a better world. In this spirit of mutual interest and mutual respect, the international community must continue to find common ground in the face of threats to the prosperity and security of all our nations.

Across the globe, United Nations personnel put their lives on the line to give meaning and action to the simple truths enshrined in the United Nations Charter. Today, U.N. humanitarian staff are providing lifesaving relief to those trapped by conflict; U.N. peacekeepers are protecting civilians against threats from extremists and other violent groups; and U.N. health workers are helping to bring Ebola under control in West Africa and deliver critical medicines to people around the world. Their dedication, hard work, and sacrifice reflect the promise of the United Nations and the best of the human spirit.

On this day, let us resolve to strengthen and renew the United Nations. Let us choose hope over fear, collaboration over division, and humanity over brutality, as we work together to build a tomorrow marked by progress rather than suffering. Our diplomacy can build the foundation for peace and our cooperation can be the catalyst for growth. By harnessing the power of the United Nations, we can build a more peaceful and more prosperous future for all our children and grandchildren.

NOW, THEREFORE, I, BARACK OBAMA, President of the United States of America, by virtue of the authority vested in me by the Constitution and the laws of the United States, do hereby proclaim October 24, 2014, as United Nations Day. I urge the Governors of the 50 States, and the officials of all other areas under the flag of the United States, to observe United Nations Day with appropriate ceremonies and activities.

IN WITNESS WHEREOF, I have hereunto set my hand this twenty-third day of October, in the year of our Lord two thousand fourteen, and of the Independence of the United States of America the two hundred and thirty-ninth.

[FR Doc. 2014-25788

Filed 10-27-14; 11:15 am]

Billing code 3295-F5